DEPARTMENT OF TRANSPORTATION

Federal Aviation Administration

14 CFR Part 39

[Docket No. FAA-2004-19264; Directorate Identifier 2004-NM-90-AD; Amendment 39-14014; AD 2005-06-06]

RIN 2120-AA64

Airworthiness Directives; Airbus Model A319, A320, and A321 Series Airplanes

AGENCY: Federal Aviation Administration (FAA), Department of Transportation (DOT).

ACTION: Final rule.

SUMMARY: The FAA is adopting a new airworthiness directive (AD) for certain Airbus Model A319, A320, and A321 series airplanes. This AD requires modification of certain auxiliary power unit (APU) alternating current (AC) generators. This AD is prompted by a report of an explosion in the APU compartment, which blew open the compartment doors. We are issuing this AD to prevent oil vapor leakage from the APU AC generator, which, when combined with an electric arc at the electrical receptacle, could result in a fire or explosion in the APU compartment during flight.

DATES: This AD becomes effective April 22, 2005.

The incorporation by reference of a certain publication listed in the AD is approved by the Director of the Federal Register as of April 22, 2005.

ADDRESSES: For service information identified in this AD, contact Airbus, 1 Rond Point Maurice Bellonte, 31707 Blagnac Cedex, France.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2004-19264; the directorate identifier for this docket is 2004-NM-90-AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: The FAA proposed to amend 14 CFR part 39 with an AD for certain Airbus Model A319, A320, and A321 series airplanes. That action, published in the Federal Register on October 7, 2004 (69 FR 60098), proposed to require modification of certain auxiliary power unit (APU) alternating current (AC) generators.

Explanation of New Relevant Service Information

The proposed AD refers to Airbus Service Bulletin A320-24-1106, dated May 26, 2003, as the appropriate source of service information for the modification of affected APU AC generators. Since the issuance of that service bulletin, Airbus has issued Revision 01, dated May 13, 2004. Revision 01 of the service bulletin provides additional information regarding on-airplane modification of the APU AC generators. Revision 01 also removes the concurrent action—accomplishment of Airbus Service Bulletin A320-24-1082, Revision 01, dated March 15, 1996, which was specified in the original issue of the service bulletin. We have revised paragraph (f) of this final rule to refer to Revision 01 of the service bulletin as the appropriate source of service information. We have also not included paragraph (g) of the proposed AD, which contained the requirement to accomplish Airbus Service Bulletin A320-24-1082, and we have made other editorial changes throughout the AD related to the omission of this requirement. We have added a new paragraph (g) to this final rule to specify that modification of the APU AC generators accomplished before the effective date of this AD in accordance with the original issue of the service bulletin is acceptable for compliance with this AD.

Comments

We provided the public the opportunity to participate in the development of this AD. We have considered the comments that have been submitted on the proposed AD.

Support for the Proposed AD

One commenter supports the proposed AD.

Request To Remove Parts Installation Paragraph

One commenter requests that we do not include paragraph (h) of the proposed AD, “Part Installation,” in the final rule. The commenter states that prohibiting the installation of an APU AC generator having an old part number is too restrictive at the beginning of the proposed 20-month compliance time because modified generators or the parts to modify the generators may not be readily available. Also, the commenter notes that the restrictions of paragraph (h) of the proposed AD would not allow for removing and reinstalling an unmodified generator during the course of troubleshooting. The commenter states that installing an unmodified APU AC generator would not pose any additional safety risk as long as all affected units are modified within the proposed 20-month compliance time.

We agree with the commenter's request and the rationale for that request. We have determined that modifying an APU AC generator within the 20-month compliance time specified by paragraph (f) of this AD is adequate to ensure an acceptable level of safety. Accordingly, we have not included paragraph (h) of the proposed AD in this final rule, and we have re-identified subsequent paragraphs in this final rule.

Request To Refer to Alternative Parts

One commenter notes that Hamilton Sundstrand Service Bulletin 90EGS01AG-24-18, dated February 13, 2003, which is referenced in the Airbus service bulletin as a source of additional information on the modification, refers to a type of lockwire and aerospace marker that are not readily available in the U.S. The commenter recommends the use of an alternate lockwire and marker that are readily available in the U.S. The commenter states that Airbus and Hamilton Sundstrand have concurred that these are acceptable alternatives.

We acknowledge the commenter's request but do not agree to revise the AD. It would not be possible for us to consider every alternate part that might be used in accomplishing the requirements of an AD. Any operator who would like to use an alternate type of lockwire and aerospace marker may submit a request for approval of an alternative method of compliance (AMOC), as specified in paragraph (h) of this AD. The request must include data substantiating that an acceptable level of safety would be maintained by use of the alternate type of lockwire and marker. No change to the AD is needed in this regard.

Conclusion

We have carefully reviewed the available data, including the comments that have been submitted, and determined that air safety and the public interest require adopting the AD with the changes described previously. We have determined that these changes will neither increase the economic burden on any operator nor increase the scope of the AD.

Costs of Compliance

This AD will affect about 537 airplanes of U.S. registry.

The modification will take about 5 work hours per airplane, at an average labor rate of $65 per work hour. Required parts would be free of charge. Based on these figures, the estimated cost of the modification for U.S. operators is $174,525, or $325 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-06-06 Airbus: Amendment 39-14014. Docket No. FAA-2004-19264; Directorate Identifier 2004-NM-90-AD.

Effective Date

(a) This AD becomes effective April 22, 2005.

Affected ADs

(b) None.

Applicability

(c) This AD applies to Airbus Model A319, A320, and A321 series airplanes; certificated in any category; equipped with any Hamilton Sundstrand Auxiliary Power Unit (APU) alternating current (AC) generator having part number 5906732, 5909006, or 5910047; with up to amendment 17 included; on which Airbus Modification 32614 has not been done.

Unsafe Condition

(d) This AD was prompted by a report of an explosion in the APU compartment which blew open the compartment doors. We are issuing this AD to prevent oil vapor leakage from the APU AC generator, which, when combined with an electric arc at the electrical receptacle, could result in a fire or explosion in the APU compartment during flight.

Compliance

(e) You are responsible for having the actions required by this AD performed within the compliance times specified, unless the actions have already been done.

Modification

(f) Within 20 months after the effective date of this AD, modify the APU AC generator by doing all the actions in accordance with the Accomplishment Instructions of Airbus Service Bulletin A320-24-1106, Revision 01, dated May 13, 2004.

Note 1: Airbus Service Bulletin A320-24-1106, Revision 01, refers to Hamilton Sundstrand Service Bulletin 90EGS01AG-24-18, dated February 13, 2003, as an additional source of service information for accomplishment of the modification required by paragraph (f) of this AD.

Previously Accomplished Actions

(g) Modification of the APU AC generator accomplished before the effective date of this AD in accordance with the Accomplishment Instructions of Airbus Service Bulletin A320-24-1106, dated May 26, 2003, is acceptable for compliance with the modification required by paragraph (f) of this AD.

Alternative Methods of Compliance (AMOCs)

(h) The Manager, International Branch, ANM-116, Transport Airplane Directorate, FAA, has the authority to approve AMOCs for this AD, if requested in accordance with the procedures found in 14 CFR 39.19.

Related Information

(i) French airworthiness directive F-2004-019, dated February 4, 2004, also addresses the subject of this AD.

Material Incorporated by Reference

(j) You must use Airbus Service Bulletin A320-24-1106, Revision 01, dated May 13, 2004, to perform the actions that are required by this AD, unless the AD specifies otherwise. The Director of the Federal Register approves the incorporation by reference of this document in accordance with 5 U.S.C. 552(a) and 1 CFR part 51. For copies of the service information, contact Airbus, 1 Rond Point Maurice Bellonte, 31707 Blagnac Cedex, France. For information on the availability of this material at the National Archives and Records Administration (NARA), call (202) 741-6030, or go to http://www.archives.gov/federal_register/code_of_federal_regulations/ibr_locations.html. You may view the AD docket at the Docket Management Facility, U.S. Department of Transportation, 400 Seventh Street, SW., room PL-401, Nassif Building, Washington, DC.

Issued in Renton, Washington, on March 8, 2005.
Ali Bahrami,
Manager, Transport Airplane Directorate, Aircraft Certification Service.

[FR Doc. 05-5140 Filed 3-17-05; 8:45 am]

BILLING CODE 4910-13-P